DEPARTMENT OF LABOR

Office of the Secretary

Submission for OMB Review; Comment Request

July 27, 2001.

The Department of Labor (DOL) has submitted the following public information collection requests (ICRs) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for ETA, Office of Management and Budget, Room 10235, Washington, DC 20503 ((202) 395-7316), on or before September 10, 2001.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Employment and Training Administration (ETA).

Title: Procedures for Classifying Labor Surplus Areas.

OMB Number: 1205-0207.

Affected Public: State, Local, or Tribal Government and Federal Government.

Frequency: On occasion.

Number of Respondents: 1.

Number of Annual Responses: 1.

Estimated Time Per Response: 3 hours.

Total Burden Hours: 3.

Total Annualized Capital/Startup Costs: $0.

Total Annual Costs (operating/maintaining systems or purchasing services): $0.

Description: Under Executive Orders 12073 and 10582, the Secretary of Labor is required to classify labor surplus areas (LSAs) for the use of Federal agencies in directing procurement activities and in locating new plants or facilities in areas of high unemployment. The LSA list is updated annually based upon petitions submitted to the Department of Labor by States requesting additional areas for LSA classification in accordance with 20 CFR 654.5.

Ira L. Mills,
Departmental Clearance Officer.

[FR Doc. 01-20076 Filed 8-9-01; 8:45 am]

BILLING CODE 4510-23-M